DEPARTMENT OF THE TREASURY

Community Development Financial Institutions Fund

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Community Development Financial Institutions Fund (the “CDFI Fund”), the Department of the Treasury, is soliciting comments concerning data collection to support the Capacity Building Initiative.

The CDFI Fund intends to collect data on the CDFI industry's needs for different training and technical assistance topics. The CDFI Fund (and its provider firms) will assess the demand for capacity-building on specific topics, the type of content to be provided, and the target audience for specific training courses. Additionally, the CDFI Fund (and its provider firms) will conduct capacity assessments of program participants to further refine course content. Data collection will be used to evaluate the services being provided through the Capacity Building Initiative as well.

Data collection is expected to take place via online surveys, survey forms submitted electronically to the CDFI Fund, in-person and remote focus groups, phone questionnaires, or similar methods. In general, the CDFI Fund does not anticipate publishing the results of these data collections; however, should this information be useful the public, the CDFI Fund will ensure that no information of a sensitive or proprietary nature is released.

DATES: Written comments should be received on or before May 23, 2011 to be assured of consideration.

ADDRESSES: Direct all comments to Ruth Jaure, CDFI Program Manager, at the Community Development Financial Institutions Fund, U.S. Department of the Treasury, 601 13th Street, NW., Suite 200 South, Washington, DC 20005, by e-mail to cdfihelp@cdfi.treas.gov or by facsimile to (202) 622-7754. Please note that this is not a toll free number.

FOR FURTHER INFORMATION CONTACT: An overview of the Capacity Building Initiative may be found on the CDFI Fund's Web site at http://www.cdfifund.gov. Requests for additional information should be directed to Ruth Jaure, Program Manager, Community Development Financial Institutions Fund, U.S. Department of the Treasury, 601 13th Street, NW., Suite 200 South, Washington, DC 20005, or call (202) 622-9156. Please note that this is not a toll free number.

SUPPLEMENTARY INFORMATION: Title: Capacity Building Initiative.

Abstract: Pursuant to the Community Development Banking and Financial Institutions Act of 1994 (the Act), as amended (12 U.S.C. 4701 et seq.), the CDFI Fund provides training and technical assistance to Community Development Financial Institutions (CDFIs) and similar entities in order to enhance their ability to make loans and investments and provide services for the benefit of designated investment areas and targeted populations. The information collected will be used to identify specific topics for training and technical assistance and develop course content which will be tailored to the needs and capacity levels of recipients. The requested information is necessary to support effective use of Federal resources.

Current Actions: New collection.

Type of Review: Regular review.

Affected Public: Certified CDFIs, entities seeking CDFI certification and similar entities.

Estimated Number of Respondents: 300.

Estimated Annual Time per Respondent: 30 hours.

Estimated Total Annual Burden Hours: 9,000 hours.

Requests for Comments: Comments submitted in response to this notice will be summarized and/or included in the request for Office of Management and Budget approval. All comments will become a matter of public record and may be published on the CDFI Fund Web site at http://www.cdfifund.gov. Comments are invited on: (a) Whether the collection of information is necessary for the proper performance of the functions of the CDFI Fund, including whether the information shall have practical utility; (b) the accuracy of the CDFI Fund's estimate of the burden of the collection of information; (c) ways to enhance the quality, utility, and clarity of the information to be collected; (d) ways to minimize the burden of the collection of information on respondents, including through the use of technology; and (e) estimates of capital or start-up costs and costs of operation, maintenance, and purchase of services to provide information.

Authority: 12 U.S.C. 1834a, 4703, 4703 note, 4713, 4717; 31 U.S.C. 321; 12 CFR part 1806.

Dated: March 8, 2011.
Donna J. Gambrell,
Director, Community Development Financial Institutions Fund.

[FR Doc. 2011-6610 Filed 3-21-11; 8:45 am]

BILLING CODE 4810-70-P